NATIONAL ARCHIVES AND RECORDS ADMINISTRATION

36 CFR Parts 1220, 1228, 1232, 1234, and 1236

RIN 3095-AB02

Records Disposition; Technical Amendments

AGENCY: National Archives and Records Administration (NARA).

ACTION: Final rule.

SUMMARY: NARA is correcting and updating internal references and form names covered in the records management regulations. This final rule will affect Federal agencies.

EFFECTIVE DATE: June 15, 2001.

FOR FURTHER INFORMATION CONTACT: Nancy Allard or Lynn Dubose at telephone number 301-713-7360 or fax number 301-713-7270.

SUPPLEMENTARY INFORMATION: Several amendments were made to Part 1228 in 1999, however, some internal references to Part 1228 in other Parts in Subchapter B and forms were not updated at that time. This final rule contains technical amendments such as designations for NARA organizational components, addresses, form titles, and cross-references.

This final rule is not a significant regulatory action for the purposes of Executive Order 12866 and has not been reviewed by the Office of Management and Budget. As required by the Regulatory Flexibility Act, I certify that this final rule will not have a significant impact on a substantial number of small entities because it applies only to Federal agencies. This final rule has no federalism or tribalism implications.

List of Subjects

36 CFR Parts 1220

Archives and records.

36 CFR Part 1228

Archives and records, Federal buildings and facilities, Incorporation by reference.

36 CFR Part 1232

Archives and records.

36 CFR Part 1234

Archives and records, Computer technology.

36 CFR Part 1236

Archives and records, Civil defense.

For the reasons set forth in the preamble, NARA amends Parts 1220, 1228, 1232, 1234 and 1236 of 36 CFR Chapter XII, as follows:

PART 1220—FEDERAL RECORDS; GENERAL

1. The authority citation for part 1220 continues to read as follows:

Authority: 44 U.S.C. 2104(a) and chs. 29 and 33.

2. In § 1220.14, revise the definition of National Archives of the United States to read as follows:

§ 1220.14 General definitions.

* * * * *

National Archives of the United States means those records that have been determined by the Archivist of the United States to have sufficient historical or other value to warrant their continued preservation by the Federal Government and that have been transferred to the legal custody of the Archivist of the United States on a Standard Form 258 (Agreement to Transfer Records to the National Archives of the United States).

* * * * *

§ 1220.52 [Amended]

3. In paragraph (c) of § 1220.52 remove the term “41 CFR subpart 201-45.6” and add in its place the term “GSA regulations in Title 41 of the CFR”.

PART 1228—DISPOSITION OF FEDERAL RECORDS

4. The authority citation for part 1228 continues to read as follows:

Authority: 44 U.S.C. chs. 21, 29, and 33.

5. In part 1228 remove the phrase “NSN 7610-01-055-8704” wherever it occurs and add in its place “(http://www.nara.gov/records/pubs/)”.

§ 1228.28 [Amended]

6. In § 1228.28, correct paragraph (b)(8)(i) by revising the reference to “§ 1228.188” to read “§ 1228.270”

§ 1228.44 [Amended]

7. In the list of schedules in § 1228.44, revise entries 19 and 22 to read: “19. RESERVED.” and “22. Inspector General Records (WITHDRAWN).”, respectively.

§ 1228.92 [Amended]

8. In paragraph (e) of § 1228.92 remove the term “41 CFR part 201-45” and add in its place the term “GSA regulations in Title 41 of the CFR”.

§ 1228.104 [Amended]

9. In paragraph (b) of § 1228.104 remove the term “41 CFR part 201-45” and add in its place the term “GSA regulations in Title 41 of the CFR”.

§ 1228.106 [Amended]

10. In § 1228.106 revise the reference to “36 CFR 1222.20(d)” to read “36 CFR 1222.36”.

11. Amend § 1228.160 by revising paragraph (f) to read as follows:

§ 1228.160 How does an agency transfer records to a NARA records center?

* * * * *

(f) For further guidance on transfer of records to a NARA records center, consult the NARA Records Center Program web site (http://www.nara.gov), or current NARA publications and bulletins by contacting the Office of Regional Records Services (NR), individual NARA regional facilities, or the Washington National Records Center (NWMW).

§ 1228.266 [Amended]

12. In § 1228.266(e)(1) remove the phrase “Nontextual Archives Division or its appropriate audiovisual branch,” and add in its place the phrase “appropriate Special Media Archives Services Division unit,”.

13. Amend § 1228.270 by revising paragraph (c)(2)(i) to read as follows:

§ 1228.270 Electronic records.

* * * * *

(c) * * *

(2) * * *

(i) CD-ROMs used for this purpose must conform to ANSI/NISO/ISO 9660-1990, American National Standard for Volume and File Structure of CD-ROM for Information Exchange. The standard is available from the National Information Standards Organization (NISO), Press Fulfillment, P.O. Box 451, Annapolis Junction, MD 20701, or the American National Standards Institute, 11 West 42nd Street, 13th floor, New York NY 10036. It is also available for inspection at the Office of the Federal Register, 800 North Capitol Street, NW, Suite 700, Washington, DC. This incorporation by reference was approved by the Director of the Federal Register in accordance with 5 U.S.C. 552(a) and 1 CFR part 51. These materials are incorporated by reference as they exist on the date of approval and a notice of any change in these materials will be published in the Federal Register.

* * * * *

14. Amend § 1228.272 by revising paragraph (b)(2) to read as follows:

§ 1228.272 Transfer of records to the National Archives of the United States

* * * * *

(b) * * *

(2) Future transfers of series in agency space. Sixty days before the scheduled date of transfer to the National Archives of the United States, the transferring agency must submit an SF 258 to the Office of Records Services—Washington, DC (NWMD), 8601 Adelphi Road, College Park, MD 20740-6001, or to the appropriate Regional Records Services facility if so provided on the SF 115. NARA will determine whether specified restrictions are acceptable and whether adequate space and equipment are available.

* * * * *

15. Revise § 1228.282 to read as follows:

§ 1228.282 Disposal clearances.

No records of a Federal agency still in existence will be disposed of by NARA except with the written concurrence of the agency concerned or as authorized on Standard Form 258, Agreement to Transfer Records to the National Archives of the United States.

PART 1232—AUDIOVISUAL RECORDS MANAGEMENT

16. The authority citation for part 1232 continues to read as follows:

Authority: 44 U.S.C. 2904 and 3101, and OMB Circular A-130.

§ 1232.20 [Amended]

17. In paragraphs (a) and (e) of § 1232.20 revise the reference to “§ 1228.184” to read “§ 1228.266”.

§ 1232.32 [Amended]

18. In § 1232.32 revise the reference to “§ 1228.184” to read § 1228.266”.

PART 1234—ELECTRONIC RECORDS MANAGEMENT

19. The authority citation for part 1234 continues to read as follows:

Authority: 44 U.S.C. 2904, 3101, 3102, and 3105.

20. In part 1234, whenever it occurs, revise the reference to “§ 1228.188” to read “§ 1228.270”.

§ 1234.10 [Amended]

21. In paragraph (a) of § 1234.10 remove the phrase Aand the General Services Administration Regulations Branch (KMPR), Washington, DC 20405,” and add in its place “and the General Services Administration, Office of Government Policy (MKB), Washington, DC 20405,”.

PART 1236—MANAGEMENT OF VITAL RECORDS

22. The authority citation for part 1236 continues to read as follows:

Authority: 44 U.S.C. 2104(a), 2904(a), 3101, E.O. 12958, 53 FR 47491, 3 CFR 1988 Comp., p. 585.

23. Amend § 1236.26 by revising paragraphs (a) and (c)(2) to read as follows:

§ 1236.26 Protection of vital records.

* * * * *

(a) Duplication. Computer backup tapes created in the normal course of system maintenance or other electronic copies that may be routinely created in the normal course of business may be used as the vital record copy. For hard copy records, agencies may choose to make microform copies. Standards for the creation, preservation and use of microforms are found in 36 CFR part 1230, Micrographic Records Management. The Clinger-Cohen Act (40 U.S.C. 1401, Pub. L. 104-106, et seq., as amended by Pub. L. 104-208), OMB Circular A-130, and 36 CFR part 1234, Electronic Records Management, and 41 CFR part 201, subchapter B, Management and Use of Information and Records, specify protective measures and standards for electronic records.

* * * * *

(c) * * *

(2) The off-site copy of legal and financial rights vital records may be stored at an off-site agency location or, in accordance with § 1228.162 of this chapter, at an FRC.

* * * * *

Dated: May 2, 2001.
John W. Carlin,
Archivist of the United States.

[FR Doc. 01-12265 Filed 5-15-01; 8:45 am]

BILLING CODE 7515-01-U